DEPARTMENT OF TRANSPORTATION

Federal Aviation Administration

14 CFR Part 71

[Docket No. FAA-2016-9319; Airspace Docket No. 16-AGL-24]

RIN 2120-AA66

Amendment of Multiple Air Traffic Service (ATS) Routes; North Central United States

AGENCY: Federal Aviation Administration (FAA), DOT.

ACTION: Final rule, technical amendment.

SUMMARY: The FAA is amending seven high altitude Area Navigation (RNAV) Q-routes (Q-140, Q-816, Q-818, Q-822, Q-824, Q-917, and Q-935) that cross the United States (U.S.)/Canada border in the north central U.S. to update the geographic latitude/longitude coordinates for five Canadian waypoints listed in the Q-route descriptions contained in the FAA and Canadian aeronautical databases.

DATES: Effective date 0901 UTC, April 27, 2017. The Director of the Federal Register approves this incorporation by reference action under title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the route structure as required to preserve the safe and efficient flow of air traffic.

History

On September 26, 2014, the FAA published in the Federal Register a final rule (79 FR 57758), Docket No. FAA-2014-0295, that amended, removed, and established multiple ATS routes in the north central U.S. to reflect and accommodate route changes being made in Canadian airspace as part of a Canadian airspace redesign project. On December 5, 2014, the FAA published in the Federal Register a final rule, technical amendment (79 FR 72135), Docket No. FAA-2014-0986, that further amended a number of the routes to reflect changes made by NAV CANADA as part of their airspace redesign effort after publication of the original final rule. During a recent aeronautical review, the FAA identified waypoint coordinate updates for the Canadian waypoints OMRAK, PEPLA, TAGUM, TANKO, and VIGLO.

This rule makes the corrections to be in concert with FAA and Canadian aeronautical databases.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

The FAA is amending Title 14, Code of Federal Regulations (14 CFR) part 71 by modifying RNAV routes Q-140, Q-816, Q-818, Q-822, Q-824, Q-917, and Q-935. The route modifications correct the OMRAK, PEPLA, TAGUM, TANKO, and VIGLO waypoint geographic coordinates used in the routes to match the FAA and Canadian aeronautical database information. The amendments ensure safe and efficient across border connectivity.

The RNAV route modifications accomplished by this action are outlined below.

Q-140: Change the PEPLA waypoint geographic coordinates from “lat. 43°47′51.00″ N., long. 080°01′02.00″ W.” to read “lat. 43°47′50.98″ N., long. 080°00′53.56″ W.”

Q-816: Change the OMRAK waypoint geographic coordinates from “lat. 43°16′06.00″ N., long. 082°16′25.00″ W.” to read “lat. 43°16′15.45″ N., long. 082°15′52.31″ W.”

Q-818: Change the TANKO waypoint geographic coordinates from “lat. 43°01′32.00″ N., long. 082°22′43.00″ W.” to read “lat. 43°01′32.48″ N., long. 082°23′02.38″ W.”

Q-822: Change the TANKO waypoint geographic coordinates from “lat. 43°01′32.00″ N., long. 082°22′43.00″ W.” to read “lat. 43°01′32.48″ N., long. 082°23′02.38″ W.”

Q-824: Change the TAGUM waypoint geographic coordinates from “lat. 43°28′47.00″ N., long. 082°10′37.00″ W.” to read “lat. 43°28′54.05″ N., long. 082°09′46.39″ W.”

Q-917: Change the VIGLO waypoint geographic coordinates from “lat. 45°23′28.00″ N., long. 082°25′11.00″ W.” to read “lat. 45°23′48.00″ N., long. 082°25′11.00″ W.”, and the PEPLA waypoint geographic coordinates from “lat. 43°47′51.00″ N., long. 080°01′02.00″ W.” to read “lat. 43°47′50.98″ N., long. 080°00′53.56″ W.”

Q-935: Change the OMRAK waypoint geographic coordinates from “lat. 43°16′06.00″ N., long. 082°16′25.00″ W.” to read “lat. 43°16′15.45″ N., long. 082°15′52.31″ W.”

High altitude United States RNAV Q-routes are published in paragraph 2006 and high altitude Canadian RNAV Q-routes are published in paragraph 2007 of FAA Order 7400.11A dated August 3, 2016, and effective September 15, 2016, which is incorporated by reference in 14 CFR 71.1. The high altitude United States and Canadian RNAV Q-routes listed in this rule will be subsequently published in the Order.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying seven high altitude RNAV Q-routes qualifies for categorical exclusion under the National Environmental Policy Act and its implementing regulations at 40 CFR part 1500, and in accordance with FAA Order 1050.1F. Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). This action is not expected to cause any potentially significant environmental impacts. In accordance with FAAO 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 2006 United States Area Navigation Routes.

* * * * *

Q-140 WOBED, WA to YODAA, NY [Amended]
WOBED, WA | WP | (Lat. 48°36′01.07″ N., long. 122°49′46.52″ W.)
GETNG, WA | WP | (Lat. 48°25′30.57″ N., long. 119°31′38.98″ W.)
CORDU, ID | FIX | (Lat. 48°10′46.41″ N., long. 116°40′21.84″ W.)
PETIY, MT | WP | (Lat. 47°58′46.55″ N., long. 114°36′20.31″ W.)
CHOTE, MT | FIX | (Lat. 47°39′56.68″ N., long. 112°09′38.13″ W.)
LEWIT, MT | WP | (Lat. 47°23′00.21″ N., long. 110°08′44.78″ W.)
SAYOR, MT | FIX | (Lat. 47°13′58.34″ N., long. 104°58′39.28″ W.)
WILTN, ND | FIX | (Lat. 47°04′58.09″ N., long. 100°47′43.84″ W.)
TTAIL, MN | WP | (Lat. 46°41′28.00″ N., long. 096°41′09.00″ W.)
CESNA, WI | WP | (Lat. 45°52′14.00″ N., long. 092°10′59.00″ W.)
WISCN, WI | WP | (Lat. 45°18′19.45″ N., long. 089°27′53.91″ W.)
EEGEE, WI | WP | (Lat. 45°08′53.00″ N., long. 088°45′58.00″ W.)
DAYYY, MI | WP | (Lat. 44°10′10.00″ N., long. 084°22′23.00″ W.)
RUBKI, Canada | WP | (Lat. 44°14′56.00″ N., long. 082°15′25.99″ W.)
PEPLA, Canada | WP | (Lat. 43°47′50.98″ N., long. 080°00′53.56″ W.)
SIKBO, Canada | WP | (Lat. 43°39′13.00″ N., long. 079°20′57.00″ W.)
MEDAV, Canada | WP | (Lat. 43°29′19.00″ N., long. 078°45′46.00″ W.)
AHPAH, NY | WP | (Lat. 43°18′19.00″ N., long. 078°07′35.11″ W.)
HANKK, NY | FIX | (Lat. 42°53′41.82″ N., long. 077°09′15.21″ W.)
BEEPS, NY | FIX | (Lat. 42°49′13.26″ N., long. 076°59′04.84″ W.)
EXTOL, NY | FIX | (Lat. 42°39′27.69″ N., long. 076°37′06.10″ W.)
MEMMS, NY | FIX | (Lat. 42°30′59.71″ N., long. 076°18′15.43″ W.)
KODEY, NY | FIX | (Lat. 42°16′47.53″ N., long. 075°47′04.00″ W.)
ARKKK, NY | WP | (Lat. 42°03′48.52″ N., long. 075°19′00.41″ W.)
RODYY, NY | WP | (Lat. 41°52′25.85″ N., long. 074°35′49.39″ W.)
YODAA, NY | FIX | (Lat. 41°43′21.19″ N., long. 074°01′52.76″ W.)
Excluding the airspace within Canada.

* * * * *

Paragraph 2007 Canadian Area Navigation Routes.

* * * * *

Q-816 HOCKE, MI to HANAA, NY [Amended]
HOCKE, MI | WP | (Lat. 43°15′43.38″ N., long. 082°42′38.27″ W.)
OMRAK, | Canada WP | (Lat. 43°16′15.45″ N., long. 082°15′52.31″ W.)
AGDOX, | Canada WP | (Lat. 43°17′01.71″ N., long. 079°05′29.29″ W.)
KELTI, | NY WP | (Lat. 43°16′57.00″ N., long. 078°56′00.00″ W.)
AHPAH, | NY WP | (Lat. 43°18′19.00″ N., long. 078°07′35.11″ W.)
GOATR, | NY WP | (Lat. 43°17′26.08″ N., long. 076°39′07.75″ W.)
ARNII, | NY WP | (Lat. 43°14′59.92″ N., long. 074°20′00.14″ W.)
HANAA, | NY WP | (Lat. 43°11′52.06″ N., long. 073°36′46.17″ W.)
Excluding the airspace within Canada.
Q-818 Flint, MI (FNT) to GAYEL, NY [Amended]
Flint, MI (FNT) | VORTAC | (Lat. 42°58′00.38″ N., long. 083°44′49.08″ W.)
TANKO, Canada | WP | (Lat. 43°01′32.48″ N., long. 082°23′02.38″ W.)
KITOK, Canada | WP | (Lat. 43°02′30.00″ N., long. 081°55′34.00″ W.)
DERLO, Canada | WP | (Lat. 43°03′59.00″ N., long. 081°05′43.00″ W.)
IKNAV, Canada | WP | (Lat. 42°57′43.00″ N., long. 078°59′04.00″ W.)
WOZEE, NY | WP | (Lat. 42°56′01.65″ N., long. 078°44′19.64″ W.)
KELIE, NY | FIX | (Lat. 42°39′37.32″ N., long. 077°44′41.05″ W.)
VIEEW, NY | FIX | (Lat. 42°26′22.07″ N., long. 077°01′33.30″ W.)
Binghampton, NY (CFB) | VORTAC | (Lat. 42°09′26.96″ N., long. 076°08′11.30″ W.)
BUFFY, PA | FIX | (Lat. 41°56′27.98″ N., long. 075°36′45.35″ W.)
STOMP, NY | WP | (Lat. 41°35′46.78″ N., long. 074°47′47.79″ W.)
MSLIN, NY | FIX | (Lat. 41°29′30.82″ N., long. 074°33′14.28″ W.)
GAYEL, NY | FIX | (Lat. 41°24′24.09″ N., long. 074°21′25.75″ W.)
Excluding the airspace within Canada.
Q-822 Flint, MI (FNT) to SINVI, Canada [Amended]
Flint, MI (FNT) | VORTAC | (Lat. 42°58′00.38″ N., long. 083°44′49.08″ W.)
TANKO, Canada | WP | (Lat. 43°01′32.48″ N., long. 082°23′02.38″ W.)
KITOK, Canada | WP | (Lat. 43°02′30.00″ N., long. 081°55′34.00″ W.)
DERLO, Canada | WP | (Lat. 43°03′59.00″ N., long. 081°05′43.00″ W.)
HOZIR, NY | WP | (Lat. 43°06′03.59″ N., long. 079°02′05.27″ W.)
GONZZ, NY | WP | (Lat. 43°05′22.00″ N., long. 076°41′12.00″ W.)
PUPPY, NY | WP | (Lat. 43°03′26.46″ N., long. 075°17′39.29″ W.)
PAYGE, NY | FIX | (Lat. 43°00′50.48″ N., long. 074°15′12.76″ W.)
Cambridge, NY (CAM) | VOR/DME | (Lat. 42°59′39.44″ N., long. 073°20′38.47″ W.)
Kennebunk, ME (ENE) | VOR/DME | (Lat. 43°25′32.42″ N., long. 070°36′48.69″ W.)
AJJAY, ME | WP | (Lat. 43°43′40.55″ N., long. 069°36′08.22″ W.)
ALLEX, ME | WP | (Lat. 44°25′00.00″ N., long. 067°00′00.00″ W.)
SINVI, Canada | WP | (Lat. 44°48′15.00″ N., long. 064°19′27.00″ W.)
Excluding the airspace within Canada.
Q824 Flint, MI (FNT) to TAGUM, Canada [Amended]
Flint, MI (FNT) | VORTAC | (Lat. 42°58′00.38″ N., long. 083°44′49.08″ W.)
HOCKE, MI | WP | (Lat. 43°15′43.38″ N., long. 082°42′38.27″ W.)
TAGUM, Canada | WP | (Lat. 43°28′54.05″ N., long. 082°09′46.39″ W.)
Excluding the airspace within Canada.

* * * * *

Q-917 Sault Ste Marie, MI (SSM) to WOZEE, NY [Amended]
Sault Ste Marie, MI (SSM) | VOR/DME | (Lat. 46°24′43.60″ N., long. 084°18′53.54″ W.)
ULUTO, Canada | WP | (Lat. 46°18′16.00″ N., long. 084°05′41.00″ W.)
VIGLO, Canada | WP | (Lat. 45°23′48.00″ N., long. 082°25′11.00″ W.)
SASUT, Canada | WP | (Lat. 44°39′59.00″ N., long. 081°17′47.00″ W.)
PEPLA, Canada | WP | (Lat. 43°47′50.98″ N., long. 080°00′53.56″ W.)
HOZIR, NY | WP | (Lat. 43°06′03.59″ N., long. 079°02′05.27″ W.)
WOZEE, NY | WP | (Lat. 42°56′01.65″ N., long. 078°44′19.64″ W.)
Excluding the airspace within Canada.

* * * * *

Q-935 MONEE, MI to Boston, MA (BOS) [Amended]
MONEE, MI | FIX | (Lat. 43°14′25.80″ N., long. 084°27′50.95″ W.)
HOCKE, MI | WP | (Lat. 43°15′43.38″ N., long. 082°42′38.27″ W.)
OMRAK, Canada | WP | (Lat. 43°16′15.45″ N., long. 082°15′52.31″ W.)
DERLO, Canada | WP | (Lat. 43°03′59.00″ N., long. 081°05′43.00″ W.)
IKNAV, Canada | WP | (Lat. 42°57′43.00″ N., long. 078°59′04.00″ W.)
WOZEE, NY | WP | (Lat. 42°56′01.65″ N., long. 078°44′19.64″ W.)
HANKK, NY | FIX | (Lat. 42°53′41.82″ N., long. 077°09′15.21″ W.)
JOSSY, NY | WP | (Lat, 42°53′29.93″ N., long. 077°02′36.80″ W.)
AUDIL, NY | FIX | (Lat. 42°52′18.74″ N., long. 076°26′35.07″ W.)
FABEN, NY | WP | (Lat. 42°51′12.04″ N., long. 075°57′07.91″ W.)
PONCT, NY | WP | (Lat. 42°44′48.83″ N., long. 073°48′48.07″ W.)
Gardner, MA (GDM) | VOR/DME | (Lat. 42°32′45.32″ N., long. 072°03′29.48″ W.)
Boston, MA (BOS) | VOR/DME | (Lat. 42°21′26.82″ N., long. 070°59′22.37″ W.)
Excluding the airspace within Canada.

Issued in Washington, DC, on January 10, 2017.
Leslie M. Swann,
Acting Manager, Airspace Policy Group.

[FR Doc. 2017-01036 Filed 1-18-17; 8:45 am]

BILLING CODE 4910-13-P